DEPARTMENT OF HOMELAND SECURITY

Coast Guard

33 CFR Part 117

[CGD05-05-061]

RIN 1625-AA-09

Drawbridge Operation Regulations; Spa Creek, MD

AGENCY: Coast Guard, DHS.

ACTION: Notice of temporary deviation from regulations.

SUMMARY: The Commander, Fifth Coast Guard District, has approved a temporary deviation from the regulations governing the operation of the S181 Bridge across the Spa Creek, at mile 0.4, at Annapolis, in MD. This deviation allows the drawbridge to remain in the closed-to-navigation position each day from 10 p.m. to 5 a.m., beginning July 6, 2005, through August 31, 2005, to facilitate sandblasting and painting operations of the bridge.

DATES: This deviation is effective from 10 p.m. beginning July 6, 2005, to 5 a.m. through August 31, 2005.

FOR FURTHER INFORMATION CONTACT: Gary Heyer, Bridge Management Specialist, Fifth Coast Guard District, at (757) 398-6629.

SUPPLEMENTARY INFORMATION: The Maryland State Highway Authority, who owns and operates the S181 Bridge, has requested a temporary deviation from the operating regulation to facilitate needed sandblasting and painting of the bridge.

To facilitate this operation, the lift-span will be locked in the closed-to-navigation position each day from 10 p.m. to 5 a.m. beginning July 6, 2005, until and including August 31, 2005. During these closure periods, the process requires completely immobilizing the operation of the lift span in the closed-to-navigation position. At all other times, the bridge will operate in accordance with the current operating regulations outlined in 33 CFR 117.571.

The Coast Guard has informed the known users of the waterway of the closure periods for the bridge so that these vessels can arrange their transits to minimize any impact caused by the temporary deviation.

The District Commander has granted temporary deviation from the operating requirements listed in 33 CFR 117.35 for the purpose of repair completion of the drawbridge. The temporary deviation allows the S181 Bridge across the Spa Creek, at mile 0.4, at Annapolis, MD, to remain in the closed-to-navigation position each day from 10 p.m. to 5 a.m. beginning July 6, 2005, through August 31, 2005.

Dated: May 20, 2005.
Waverly W. Gregory, Jr.,
Chief, Bridge Administration Branch, Fifth Coast Guard District.

[FR Doc. 05-10694 Filed 5-27-05; 8:45 am]

BILLING CODE 4910-15-P